DEPARTMENT OF HOMELAND SECURITY

Federal Emergency Management Agency

[Docket ID FEMA-2022-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP).

DATES: The date of October 13, 2022 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Baldwin County, Georgia and Incorporated Areas
Docket No.: FEMA-B-2139
City of Milledgeville | Planning and Zoning Department, 105 East Hancock Street, Milledgeville, GA 31061.
Unincorporated Areas of Baldwin County | Baldwin County Planning and Development, 1601 North Columbia Street, Suite 200, Milledgeville, GA 31061.
Jasper County, Georgia and Incorporated Areas
Docket No.: FEMA-B-2139
City of Monticello | City Hall, 123 West Washington Street, Monticello, GA 31064.
Unincorporated Areas of Jasper County | Jasper County Courthouse, Planning and Zoning Department, 126 West Greene Street, Suite 17, Monticello, GA 31064.
Jones County, Georgia and Incorporated Areas
Docket No.: FEMA-B-2139
Unincorporated Areas of Jones County | Jones County Planning and Zoning Department, 166 Industrial Boulevard, Gray, GA 31032.
Buena Vista County, Iowa and Incorporated Areas
Docket No.: FEMA-B-2033
City of Lakeside | City Hall, 100 Ash Street, Lakeside, IA 50588.
City of Linn Gove | Community Center, 110 Weaver Street, Linn Grove, IA 51033.
City of Newell | City Hall, 207 East 2nd Street, Newell, IA 50568.
City of Sioux Rapids | City Hall, 100 Front Street, Sioux Rapids, IA 50585.
City of Storm Lake | City Hall, 620 Erie Street, Storm Lake, IA 50588.
City of Truesdale | City Hall, 120 Main Street, Truesdale, IA 50592.
Unincorporated Areas of Buena Vista County | Buena Vista Courthouse, 215 East 5th Street, Storm Lake, IA 50588.
Nicollet County, Minnesota and Incorporated Areas
Docket No.: FEMA-B-2145
City of Courtland | City Office, 329 Main Street, Courtland, MN 56021.
City of Mankato | Intergovernmental Center, 10 Civic Center Plaza, Mankato, MN 56001.
City of North Mankato | City Hall, 1001 Belgrade Avenue, North Mankato, MN 56003.
City of Saint Peter | Municipal Building, 227 South Front Street, Saint Peter, MN 56082.
Unincorporated Areas of Nicollet County | Nicollet County Government Center, 501 South Minnesota Avenue, Saint Peter, MN 56082.
Paulding County, Ohio and Incorporated Areas
Docket No.: FEMA-B-2146
Unincorporated Areas of Paulding County | Paulding County Commissioners Office, 115 North Williams Street, Pauling, OH 45879.
Village of Antwerp | Village Hall, 118 North Main Street, Antwerp, OH 45813.
Village of Cecil | Village Hall, 301 West 3rd Street, Cecil, OH 45821.
Village of Grover Hill | Village Hall, 104 South Main Street, Grover Hill, OH 45849.
Village of Haviland | Village Hall, 201 North Vine Street, Haviland, OH 45851.
Village of Melrose | Council House, 705 State Street, Melrose, OH 45861.
Village of Oakwood | Village Hall, 228 North 1st Street, Oakwood, OH 45873.
Village of Paulding | Village Hall, 116 South Main Street, Paulding, OH 45879.
Village of Payne | Village Hall, 119 North Main Street, Payne, OH 45880.
Village of Scott | Paulding County Commissioners Office, 115 North Williams Street, Pauling, OH 45879.
Nueces County, Texas and Incorporated Areas
Docket No.: FEMA-B-1603 and B-2069
City of Agua Dulce | City Hall, 1514 2nd Street, Agua Dulce, TX 78330.
City of Aransas Pass | City Hall, 600 West Cleveland Boulevard, Aransas Pass, TX 78336.
City of Bishop | City Hall, 203 East Main Street, Bishop, TX 78343.
City of Corpus Christi | Development Services, 2406 Leopard Street, Corpus Christi, TX 78408.
City of Driscoll | City Hall, 133 West Dragon Street, Driscoll, TX 78351.
City of Petronila | Nueces County Courthouse, 901 Leopard Street, Corpus Christi, TX 78401.
City of Port Aransas | City Hall, 710 West Avenue A, Port Aransas, TX 78373.
City of Portland | Public Works, 1101 Moore Avenue, Portland, TX 78374.
City of Robstown | Code Enforcement Division, 101 East Main Street, Robstown, TX 78380.
Unincorporated Areas of Nueces County | Nueces County Courthouse, 901 Leopard Street, Corpus Christi, TX 78401.

[FR Doc. 2022-12380 Filed 6-8-22; 8:45 am]

BILLING CODE 9110-12-P